SURFACE TRANSPORTATION BOARD

[Docket No. FD 36106]

2nd & Main, LLC—Acquisition and Operation Exemption—Norland North Chicago, LLC

2nd & Main, LLC (2ML), a noncarrier, has filed a verified notice of exemption under 49 CFR 1150.31 to acquire from Norland North Chicago, LLC (Norland) and operate approximately 540 feet of rail line between a point of connection on its north end to a main track of the Elgin, Joliet & Eastern Railway Company (now Canadian National Railway Company) and a point of connection on its southwest end to a main track of the Chicago & North Western Railway Company (now Union Pacific Railroad Company), in North Chicago, in Lake County, Ill. (the Line). According to 2ML, there are no milepost designations on the Line.

The verified notice indicates that the transaction will be consummated shortly after April 5, 2017, the effective date of the exemption (30 days after the notice of exemption was filed).¹

¹ 2ML's notice is related to a notice of exemption filed in Hussey Terminal Railroad Company—Acquisition & Operation Exemption—2nd & Main, LLC, Docket No. FD 36103, in which Hussey Terminal Railroad Company seeks Board authority to acquire the Line from 2ML. That notice is contingent upon this notice becoming effective.

2ML certifies that its projected annual revenues as a result of this transaction will not result in its becoming a Class II or Class I rail carrier and will not exceed $5 million.

2ML states that there are no interchange commitments.

If the verified notice contains false or misleading information, the exemption is void ab initio. Petitions to revoke the exemption under 49 U.S.C. 10502(d) may be filed at any time. The filing of a petition to revoke will not automatically stay the effectiveness of the exemption. Petitions to stay must be filed no later than March 29, 2017 (at least seven days before the exemption becomes effective).

An original and 10 copies of all pleadings, referring to Docket No. FD 36106, must be filed with the Surface Transportation Board, 395 E Street SW., Washington, DC 20423-0001. In addition, a copy of each pleading must be served on Thomas F. McFarland, 208 South LaSalle St., Suite 1666, Chicago, IL 60604-1228.

Board decisions and notices are available on our Web site at “WWW.STB.GOV.”

Decided: March 17, 2017.
By the Board, Rachel D. Campbell, Director, Office of Proceedings.
Jeffrey Herzig,
Clearance Clerk.

[FR Doc. 2017-05716 Filed 3-21-17; 8:45 am]

BILLING CODE 4915-01-P